DEPARTMENT OF TRANSPORTATION

Federal Aviation Administration

14 CFR Part 97

[Docket No. 31346 Amdt. No. 3935]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 28, 2020. The compliance date for each SIAP, associated Takeoff Minimums, and ODP is specified in the amendatory provisions.

The incorporation by reference of certain publications listed in the regulations is approved by the Director of the Federal Register as of December 28, 2020.

ADDRESSES: Availability of matters incorporated by reference in the amendment is as follows:

For Examination

1. U.S. Department of Transportation, Docket Ops-M30. 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73169. Telephone (405) 954-4164.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA Forms 8260-3, 8260-4, 8260-5, 8260-15A, 8260-15B, when required by an entry on 8260-15A, and 8260-15C.

The large number of SIAPs, Takeoff Minimums and ODPs, their complex nature, and the need for a special format make publication in the Federal Register expensive and impractical. Further, airmen do not use the regulatory text of the SIAPs, Takeoff Minimums or ODPs, but instead refer to their graphic depiction on charts printed by publishers or aeronautical materials. Thus, the advantages of incorporation by reference are realized and publication of the complete description of each SIAP, Takeoff Minimums and ODP listed on FAA form documents is unnecessary. This amendment provides the affected CFR sections and specifies the typed of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Lists of Subjects in 14 CFR Part 97

Air Traffic Control, Airports, Incorporation by reference, Navigation (Air).

Issued in Washington, DC, on December 11, 2020.
Wade Terrell,
Aviation Safety, Manager, Flight Procedures & Airspace Group, Flight Technologies and Procedures Division.

Adoption of The Amendment

Accordingly, pursuant to the authority delegated to me, Title 14, Code of Federal Regulations, Part 97 (14 CRF part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 28 January 2021

Cullman, AL, KCMD, RNAV (GPS) RWY 20, Amdt 1B

Hope, AR, M18, VOR RWY 4, Orig-A

Killdeer, ND, 9Y1, RNAV (GPS) RWY 13, Orig

Killdeer, ND, 9Y1, RNAV (GPS) RWY 31, Orig

Killdeer, ND, 9Y1, Takeoff Minimums and Obstacle DP, Orig

Effective 25 February 2021

Toksook Bay, AK, PAOO, RNAV (GPS) RWY 34, Amdt 3B

Grand Canyon, AZ, 40G, RNAV (GPS) RWY 1, Orig-D

Grand Canyon, AZ, 40G, RNAV (GPS) RWY 19, Orig-C

Hollister, CA, KCVH, RNAV (GPS) RWY 31, Amdt 1A

Los Angeles, CA, KLAX, ILS OR LOC RWY 24R, ILS RWY 24R (CAT II), ILS RWY 24R (CAT III), Amdt 26A

Los Angeles, CA, KLAX, RNAV (GPS) Y RWY 24R, Amdt 3A

Los Angeles, CA, KLAX, RNAV (RNP) Z RWY 24R, Amdt 1B

San Luis Obispo, CA, San Luis County Rgnl, Takeoff Minimums and Obstacle DP, Amdt 8

Denver, CO, Centennial, Takeoff Minimums and Obstacle DP, Amdt 5A

Lamar, CO, Southeast Colorado Rgnl, RNAV (GPS) RWY 8, Amdt 1D

Lamar, CO, Southeast Colorado Rgnl, RNAV (GPS) RWY 18, Amdt 1E

Lamar, CO, Southeast Colorado Rgnl, RNAV (GPS) RWY 26, Orig-E

Lamar, CO, Southeast Colorado Rgnl, RNAV (GPS) RWY 36, Amdt 1D

Lamar, CO, Southeast Colorado Rgnl, VOR RWY 18, Amdt 10E

Lamar, CO, Southeast Colorado Rgnl, VOR RWY 36, Amdt 1D

Pueblo, CO, Pueblo Memorial, RNAV (GPS) RWY 35, Orig-B

Washington, DC, KDCA, RNAV (GPS) RWY 15, Orig-C

Washington, DC, Ronald Reagan Washington National, RNAV (GPS) RWY 33, Amdt 1B

Arcadia, FL, Arcadia Muni, RNAV (GPS)-A, Orig-A

Arcadia, FL, Arcadia Muni, RNAV (GPS)-B, Orig-A

Jacksonville, FL, KVQQ, RNAV (GPS) RWY 27L, Amdt 1B

Augusta, GA, Augusta Rgnl at Bush Field, ILS OR LOC RWY 17, Amdt 10

Augusta, GA, Augusta Rgnl at Bush Field, RNAV (GPS) RWY 17, Amdt 3

Augusta, GA, Augusta Rgnl at Bush Field, RNAV (GPS) RWY 35, Amdt 2D

Augusta, GA, Augusta Rgnl at Bush Field, RNAV (GPS) Z RWY 8, Amdt 1

Canton, GA, Cherokee County Rgnl, NDB RWY 5, Amdt 4B

Canton, GA, Cherokee County Rgnl, RNAV (GPS) RWY 5, Amdt 1B

Canton, GA, Cherokee County Rgnl, RNAV (GPS) RWY 23, Amdt 1B

Hilo, HI, Hilo Intl, RNAV (GPS) RWY 21, Amdt 1

Honolulu, HI, PHNL, LOC RWY 4R, Amdt 1D

Honolulu, HI, PHNL, LOC RWY 8L, Amdt 1C

Honolulu, HI, PHNL, LDA RWY 26L, Amdt 6A

Honolulu, HI, PHNL, RNAV (GPS) Y RWY 4R, Amdt 3A

Honolulu, HI, PHNL, VOR OR TACAN RWY 4R, Orig-E

Honolulu, HI, PHNL, VOR OR TACAN-A, Amdt 1D

Honolulu, HI, PHNL, VOR OR TACAN-B, Amdt 2D

Mapleton, IA, KMEY, RNAV (GPS) RWY 2, Orig-B

Mapleton, IA, KMEY, RNAV (GPS) RWY 20, Orig-D

Sioux City, IA, Sioux Gateway/Brig Gen Bud Day Field, ILS OR LOC RWY 13, Amdt 3

Sioux City, IA, Sioux Gateway/Brig Gen Bud Day Field, ILS OR LOC RWY 31, Amdt 26

Driggs, ID, Driggs-Reed Memorial, LAMON THREE, Graphic DP

Driggs, ID, Driggs-Reed Memorial, Takeoff Minimums and Obstacle DP, Amdt 3A

Belleville, IL, KBLV, ILS OR LOC RWY 14R, Orig-G

Belleville, IL, KBLV, RNAV (GPS) RWY 14R, Orig-F

Belleville, IL, KBLV, TACAN RWY 14R, Amdt 1C

Belleville, IL, KBLV, TACAN RWY 32L, Amdt 1C

Parsons, KS, Tri-City, RNAV (GPS) RWY 17, Amdt 1A

Parsons, KS, Tri-City, RNAV (GPS) RWY 35, Amdt 1A

Pittsburg, KS, Atkinson Muni, RNAV (GPS) RWY 4, Amdt 1G

Pittsburg, KS, Atkinson Muni, VOR RWY 4, Amdt 3G

Scott City, KS, Scott City Muni, Takeoff Minimums and Obstacle DP, Amdt 1

Owensboro, KY, Owensboro-Daviess County Rgnl, Takeoff Minimums and Obstacle DP, Amdt 5B

Paducah, KY, Barkley Rgnl, ILS OR LOC RWY 5, Amdt 10D

Paducah, KY, Barkley Rgnl, RNAV (GPS) RWY 5, Amdt 2

Paducah, KY, Barkley Rgnl, RNAV (GPS) RWY 14, Amdt 1

Paducah, KY, Barkley Rgnl, RNAV (GPS) RWY 23, Orig-E

Paducah, KY, Barkley Rgnl, RNAV (GPS) RWY 32, Amdt 1

Paducah, KY, Barkley Rgnl, Takeoff Minimums and Obstacle DP, Amdt 4

Paducah, KY, Barkley Rgnl, VOR RWY 5, Amdt 18C

Paducah, KY, Barkley Rgnl, VOR RWY 23, Amdt 6E

Williamsburg, KY, Williamsburg-Whitley County, Takeoff Minimums and Obstacle DP, Amdt 2A

Jennings, LA, Jennings, Takeoff Minimums and Obstacle DP, Amdt 2B

Opelousas, LA, St Landry Parish-Ahart Field, VOR RWY 36, Amdt 1B

Houlton, ME, Houlton Intl, Takeoff Minimums and Obstacle DP, Amdt 3

Lansing, MI, Capital Region Intl, RNAV (GPS) RWY 6, Amdt 1

Lansing, MI, Capital Region Intl, RNAV (GPS) RWY 10R, Amdt 1

Lansing, MI, Capital Region Intl, RNAV (GPS) RWY 24, Amdt 1

Appleton, MN, KAQP, NDB RWY 13, Amdt 1, CANCELLED

Bemidji, MN, Bemidji Rgnl, ILS OR LOC RWY 25, Amdt 2

Bemidji, MN, Bemidji Rgnl, ILS OR LOC RWY 31, Amdt 7

Benson, MN, KBBB, NDB RWY 14, Amdt 7B, CANCELLED

Cambridge, MN, KCBG, NDB RWY 34, Amdt 7A, CANCELLED

Canby, MN, Myers Field, RNAV (GPS) RWY 30, Amdt 1A

Crookston, MN, KCKN, NDB RWY 13, Amdt 9A, CANCELLED

Glencoe, MN, KGYL, NDB RWY 31, Amdt 1A, CANCELLED

Granite Falls, MN, Granite Falls Muni/Lenzen-Roe-Fagen Memorial Field, RNAV (GPS) RWY 33, Orig-A

Little Falls, MN, KLXL, NDB RWY 31, Amdt 6E, CANCELLED

Longville, MN, KXVG, NDB RWY 31, Amdt 1A, CANCELLED

Moose Lake, MN, KMZH, NDB RWY 4, Amdt 1B, CANCELLED

Mora, MN, KJMR, NDB RWY 35, Orig-A, CANCELLED

Orr, MN, KORB, NDB RWY 13, Amdt 8C, CANCELLED

Ortonville, MN, KVVV, NDB RWY 34, Amdt 2B, CANCELLED

Park Rapids, MN, KPKD, ILS OR LOC RWY 31, Amdt 2

Pipestone, MN, Pipestone Muni, RNAV (GPS) RWY 36, Amdt 1C

Staples, MN, KSAZ, NDB RWY 14, Amdt 3C, CANCELLED

Thief River Falls, MN, Thief River Falls Rgnl, RNAV (GPS) RWY 4, Orig-A

Tracy, MN, Tracy Muni, RNAV (GPS) RWY 11, Orig-B

Columbia, MO, Columbia Rgnl, ILS OR LOC RWY 2, Amdt 16B

Columbia, MO, Columbia Rgnl, RNAV (GPS) RWY 2, Amdt 2B

Columbia, MO, Columbia Rgnl, RNAV (GPS) RWY 13, Amdt 1A

Columbia, MO, Columbia Rgnl, RNAV (GPS) RWY 31, Amdt 1A

Columbia, MO, Columbia Rgnl, VOR RWY 13, Amdt 4A

Raleigh/Durham, NC, Raleigh-Durham Intl, RNAV (GPS) Y RWY 5L, Amdt 2

Raleigh/Durham, NC, Raleigh-Durham Intl, RNAV (GPS) Y RWY 5R, Amdt 4

Raleigh/Durham, NC, Raleigh-Durham Intl, RNAV (GPS) Y RWY 23L, Amdt 3

Raleigh/Durham, NC, Raleigh-Durham Intl, RNAV (RNP) Z RWY 5L, Amdt 3

Raleigh/Durham, NC, Raleigh-Durham Intl, RNAV (RNP) Z RWY 5R, Amdt 3

Raleigh/Durham, NC, Raleigh-Durham Intl, RNAV (RNP) Z RWY 23L, Amdt 3

Raleigh/Durham, NC, Raleigh-Durham Intl, VOR RWY 5R, Amdt 13F, CANCELLED

Raleigh/Durham, NC, Raleigh-Durham Intl, VOR RWY 23L, Amdt 14F, CANCELLED

Dickinson, ND, KDIK, ILS OR LOC RWY 32, Amdt 1C, CANCELLED

Dickinson, ND, KDIK, RNAV (GPS) RWY 14, Amdt 1A, CANCELLED

Dickinson, ND, KDIK, RNAV (GPS) RWY 32, Amdt 2B, CANCELLED

Dickinson, ND, Dickinson—Theodore Roosevelt Rgnl, Takeoff Minimums and Obstacle DP, Amdt 2A

Creighton, NE, Creighton Muni, RNAV (GPS) RWY 31, Orig-D

Lexington, NE, Jim Kelly Field, RNAV (GPS) RWY 32, Amdt 2

Jaffrey, NH, KAFN, RNAV (GPS)-C, Amdt 1

Millville, NJ, KMIV, RNAV (GPS) RWY 14, Orig-F

Princeton/Rocky Hill, NJ, Princeton, VOR-A, Amdt 7C

Wildwood, NJ, Cape May County, Takeoff Minimums and Obstacle DP, Amdt 3A

Ruidoso, NM, Sierra Blanca Rgnl, CAPITAN TWO, Graphic DP

Ruidoso, NM, Sierra Blanca Rgnl, Takeoff Minimums and Obstacle DP, Orig-A

Las Vegas, NV, North Las Vegas, GPS RWY 12R, Orig-E, CANCELLED

Las Vegas, NV, North Las Vegas, GPS RWY 30L, Orig-B, CANCELLED

Las Vegas, NV, North Las Vegas, RNAV (GPS) RWY 12R, Orig

White Plains, NY, Westchester County, ILS OR LOC RWY 16, ILS RWY 16 (SA CAT I), ILS RWY 16 (SA CAT II), Amdt 25C

White Plains, NY, Westchester County, ILS OR LOC RWY 34, Amdt 5C

Ketchum, OK, 1K8, RNAV (GPS) RWY 36, Orig-B

Weatherford, OK, KOJA, RNAV (GPS) RWY 17, Amdt 2A

Mc Minnville, OR, Mc Minnville Muni, Takeoff Minimums and Obstacle DP, Amdt 5

Chambersburg, PA, Franklin County Rgnl, RNAV (GPS) RWY 6, Orig-C

Chambersburg, PA, Franklin County Rgnl, RNAV (GPS) RWY 24, Orig-C

Doylestown, PA, Doylestown, VOR-A, Orig

Doylestown, PA, Doylestown, VOR/DME RWY 23, Amdt 8B, CANCELLED

Latrobe, PA, Arnold Palmer Rgnl, ILS OR LOC RWY 24, Amdt 17B

Huron, SD, Huron Rgnl, ILS OR LOC RWY 12, Amdt 11

Huron, SD, Huron Rgnl, LOC BC RWY 30, Amdt 14

Huron, SD, Huron Rgnl, RNAV (GPS) RWY 12, Orig-B

Huron, SD, Huron Rgnl, RNAV (GPS) RWY 30, Amdt 1C

Huron, SD, Huron Rgnl, VOR RWY 12, Amdt 22A, CANCELLED

Miller, SD, Miller Muni, RNAV (GPS) RWY 15, Amdt 1B

Miller, SD, Miller Muni, RNAV (GPS) RWY 33, Amdt 1B

Pierre, SD, Pierre Rgnl, RNAV (GPS) RWY 25, Amdt 2A

Pierre, SD, Pierre Rgnl, RNAV (GPS) RWY 31, Amdt 1A

Gallatin, TN, KXNX, RNAV (GPS) RWY 35, Amdt 3B

Jasper, TN, Marion County-Brown Field, Takeoff Minimums and Obstacle DP, Amdt 2A

Mountain City, TN, Johnson County, Takeoff Minimums and Obstacle DP, Amdt 1

Austin, TX, KAUS, ILS OR LOC RWY 35R, ILS RWY 35R (SA CAT I), ILS RWY 35R (SA CAT II), Amdt 4A

Austin, TX, Austin-Bergstrom Intl, RNAV (RNP) Z RWY 17R, Amdt 1A

Austin, TX, KHYI, RNAV (GPS) RWY 8, Orig-C

El Paso, TX, KELP, RADAR-1, Amdt 15C

Harlingen, TX, Valley Intl, VOR RWY 17L, Amdt 1

Marfa, TX, Marfa Muni, Takeoff Minimums and Obstacle DP, Amdt 1A

Midlothian/Waxahachie, TX, Mid-Way Rgnl, RNAV (GPS) RWY 18, Orig-B

Vernal, UT, KVEL, RNAV (GPS) Y RWY 35, Orig-B

Vernal, UT, KVEL, VOR RWY 35, Orig-B

Wise, VA, Lonesome Pine, LOC RWY 24, Amdt 1

Wise, VA, Lonesome Pine, RNAV (GPS) RWY 6, Orig-B

Wise, VA, Lonesome Pine, RNAV (GPS) RWY 24, Amdt 1

Highgate, VT, KFSO, VOR RWY 19, Amdt 5B, CANCELLED

[FR Doc. 2020-28413 Filed 12-23-20; 8:45 am]

BILLING CODE 4910-13-P